FEDERAL COMMUNICATIONS COMMISSION

47 CFR Parts 0 and 1

[GEN Docket No. 86-285; FCC 04-150]

Schedule of Application Fees

AGENCY: Federal Communications Commission.

ACTION: Final rule.

SUMMARY: In this document the Commission has amended its Schedule of Application Fees to adjust the fees for processing applications and other filings. Section 8(b) of the Communications Act requires the Commission to adjust its application fees every two years after October 1, 1991 to reflect the net change in the Consumer Price Index for all Urban Consumers (CPI-U). The increased fees reflect the net change in the CPI-U of 7 percent, calculated from October 2001 to October 2003.

DATES: Effective August 6, 2004.

FOR FURTHER INFORMATION CONTACT: Claudette Pride, Office of the Managing Director at (202) 418-1995.

SUPPLEMENTARY INFORMATION: In the Matter of the Schedule of Application Fees Set Forth in §§ 1.1102 through 1.1107 of the Commission's Rules.

Adopted: June 23, 2004.

Released: June 25, 2004.

By this action, the Commission amends its Schedule of Application Fees, 47 CFR 1.1102 et seq., to adjust the fees for processing applications and other filings. Section 8(b) of the Communications Act, as amended, requires that the Commission review and adjust its application fees every two years after October 1, 1999. 47 U.S.C. 158(b). The adjusted or increased fees reflect the net change in the Consumer Price Index for all Urban Consumers (CPI-U) of 47 percent, calculated from December 1989 to October 2003. The adjustments made to the fee schedule comport with the statutory formula set forth in section 8(b).

List of Subjects in 47 CFR Parts 0 and 1

Practice and procedures.

Federal Communications Commission.
Jacqueline R. Coles,
Manager, Agenda Publications Group.

Rule Changes

Parts 0 and 1 of Title 47 of the Code of Federal Regulations are amended as follows:

PART 0—COMMISSION ORGANIZATION

1. The authority citations for part 0 continue to read as follows:

Authority: Sec. 5, 48 Stat. 1068, as amended; 47 U.S.C. 155, 225, unless otherwise noted.

2. Section 0.481 is revised to read as follows:

§ 0.481 Place of filing applications for radio authorizations.

For locations for filing applications, and appropriate fees, see §§ 1.1102 through 1.1107 of this chapter.

PART 1—PRACTICE AND PROCEDURE

3. The authority citations for Part 1 continue to read as follows:

Authority: 47 U.S.C. 151, 154(i), 154(j), 155, 225, 303, and 309, unless otherwise noted.

4. Section 1.721 is amended by revising paragraph (a)(13) to read as follows:

§ 1.721 Format and content of complaints.

(a)* * *

(13) A declaration, under penalty of perjury, by the complainant or complainant's counsel describing the amount, method, and date of the complainant's payment of the filing fee required under § 1.1106 and the complainant's 10-digit FCC Registration Number, if any;

* * * * *

5. Section 1.735 is amended by revising paragraph (b) introductory text and paragraph (b)(4) to read as follows:

§ 1.735 Copies; service; separate filings against multiple defendants.

* * * * *

(b) The complainant shall file an original copy of the complaint, accompanied by the correct fee, in accordance with part 1, subpart G (see § 1.1106) and, on the same day:

* * * * *

(b)(4) If a complaint is addressed against multiple defendants, pay a separate fee, in accordance with part 1, subpart G (see § 1.1106), and file three copies of the complaint with the Office of the Commission Secretary for each additional defendant.

* * * * *

6. Section 1.1102 is revised to read as follows:

§ 1.1102 Schedule of charges for applications and other filings in the wireless telecommunications services.

Those services designated with an asterisk in the payment type code column have associated regulatory fees that must be paid at the same time the application fee is paid. Please refer to § 1.1152 for the appropriate regulatory fee that must be paid for this service.

BILLING CODE 6712-01-U

7. Section 1.1103 is revised to read as follows:

§ 1.1103 Schedule of charges for equipment approval, experimental radio services, and international telecommunications settlement services.

8. Section 1.1104 is revised to read as follows:

§ 1.1104 Schedule of charges for applications and other filings for media services.

Those services designated with an asterisk in the Payment Type Code column accept multiples if filing in the same post office box.

9. Section 1.1105 is revised to read as follows:

§ 1.1105 Schedule of charges for applications and other filings for the wireline competition service.

10. Section 1.1106 is revised to read as follows:

§ 1.1106 Schedule of charges for applications and other filings for the enforcement service.

11. Section 1.1107 is revised to read as follows:

§ 1.1107 Schedule of charges for applications and other filings for the international service.

BILLING CODE 6712-01-C

12. Section 1.1111 is amended by revising paragraph (a)(2) and paragraph (c) to read as follows:

§ 1.1111 Filing Locations.

(a) * * *

(2) Bills for collection will be paid at the Commission's lockbox bank at the address of the appropriate service as established in §§ 1.1102 through 1.1107, as set forth on the bill sent by the Commission. Payments must be accompanied by the bill sent by the Commission. Payments must be accompanied by the bill to ensure proper credit.

* * * * *

(c) Fees for applications and other filings pertaining to the Wireless Radio Services that are submitted electronically via ULS may be paid electronically or sent to the Commission's lock box bank manually. When paying manually, applicants must include the application file number (assigned by the ULS electronic filing system on FCC Form 159) and submit such number with the payment in order for the Commission to verify that the payment was made. Manual payments must be received no later than ten (10) days after receipt of the application on ULS or the application will be dismissed. Payment received more than ten (10) days after electronic filing of an application on a Bureau/Office electronic filing system (e.g., ULS) will be forfeited (see §§ 1.934 and 1.1109.)

* * * * *

13. Section 1.1113 is amended by revising paragraph (a)(6) and paragraph (c) to read as follows:

§ 1.1113 Return or refund of charges.

(a) * * *

(6) When an application for new or modified facilities is not timely filed in accordance with the filing window as established by the Commission in a public notice specifying the earliest and latest dates for filing such applications.

* * * * *

(c) Applicants in the Media Services for first-come, first-served construction permits will be entitled to a refund of the fee, if, within fifteen days of the issuance of a Public Notice.

* * * * *

14. Section 1.1114 is amended by revising the introductory text to read as follows:

§ 1.1114 General exemptions to charges.

No fee established in 1.1102 through 1.1107 of this subpart, unless otherwise qualified herein, shall be required for:

* * * * *

15. Section 1.1115 is amended by revising paragraph (a) introductory text and paragraph (a)(2) to read as follows:

§ 1.1115 Adjustment to charges.

(a) The Schedule of Charges established by §§ 1.1102 through 1.1107 of this subpart shall be reviewed by the Commission on October 1, 1999 and every two years thereafter, and adjustments made, if any, will be reflected in the next publication of Schedule of Charges.

* * * * *

(2) Adjustments based upon the percentage change in the CPI-U will be applied against the base fees as enacted or amended by Congress in the year the fee was enacted or amended.

* * * * *

16. Section 1.1116 is amended by revising paragraph (a) introductory text to read as follows:

§ 1.1116 Penalty for late or insufficient payments.

(a) Filings subject to fees and accompanied by defective fee submissions will be dismissed under § 1.1109(d) of this subpart where the defect is discovered by the Commission's staff within 30 calendar days from the receipt of the application or filing by the Commission.

* * * * *

17. Section 1.1119 is amended by revising paragraph (a) to read as follows:

§ 1.1119 Billing procedures.

(a) The fees required for the International Telecommunications Settlements (§ 1.1103 of this subpart), Accounting and Audits Field Audits and Review of Arrest Audits (§ 1.1106 of this subpart) should not be paid with the filing or submission of the request. The fees required for requests for Special Temporary Authority (see generally §§ 1.1102, 1.1104, 1.1106 & 1.1107 of this subpart) that the applicant believes is of an urgent or emergency nature and are filed directly with the appropriate Bureau or Office should not be paid with the filing of the request with that Bureau or Office.

* * * * *

[FR Doc. 04-15431 Filed 7-6-04; 8:45 am]

BILLING CODE 6712-01-U